DEPARTMENT OF TRANSPORTATION

Maritime Administration

[Docket No. MARAD 2011 0080]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before August 19, 2011.

FOR FURTHER INFORMATION CONTACT: Anne Wehde, Office of Maritime Workforce Development, Maritime Administration, 1200 New Jersey Avenue, SE., Washington, DC 20590. Telephone: 202-366-5469; or e-mail: anne.wehde@dot.gov. Copies of this collection can also be obtained from that office.

SUPPLEMENTARY INFORMATION:

Title of Collection: MARAD Maritime Operator Survey Concerning Mariner Availability.

Type of Request: Extension of currently approved information collection.

OMB Control Number: 2133-0537.

Form Numbers: MA-1048.

Expiration Date of Approval: Three years after date of approval by the Office of Management and Budget.

Summary of Collection of Information: Part of the stated statutory policy of the Merchant Marine Act, 1936, is to foster the development and maintenance of an adequate U.S.-flag merchant marine manned with trained and efficient citizen mariners. In order to successfully meet this mandate, the Maritime Administration (MARAD) must determine whether a current or projected shortage of mariners exists and the possible impact of such a shortage on the merchant marine. MARAD believes that a survey is necessary because it has received an abundance of anecdotal information indicating there is a serious existing and projected mariner shortage in different market sectors.

Need and Use of the Information: The information will be used by MARAD to determine if a current and/or projected mariner shortage exists. If there is a projected shortage that appears to be more short-term, MARAD will follow up with a more detailed survey to ascertain the best means to address the shortage.

Description of Respondents: The target population for the survey will be approximately 100 vessel operating companies representing different sectors of the U.S. maritime industry.

Annual Responses: 100 responses.

Annual Burden: 33 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: 49 CFR 1.66.

By Order of the Maritime Administrator.
Dated: June 13, 2011.
Christine Gurland,
Secretary, Maritime Administration.

[FR Doc. 2011-15151 Filed 6-17-11; 8:45 am]

BILLING CODE 4910-81-P